FEDERAL COMMUNICATIONS COMMISSION

47 CFR Part 4

[PS Docket Nos. 21-346, 15-80; ET Docket No. 04-35; FCC 24-5; FR ID 225803]

Petition for Reconsideration of Action in a Rulemaking Proceeding; Correction

AGENCY: Federal Communications Commission.

ACTION: Petition for reconsideration; correction.

SUMMARY: The Federal Communications Commission published a document in the Federal Register on June 7, 2024, containing the oppositions and replies to oppositions dates for a petition for reconsideration. While the date for oppositions was correct, the date for replies to oppositions requires a correction.

DATES: July 3, 2024.

FOR FURTHER INFORMATION CONTACT: Logan Bennett, Attorney Advisor, 202-418-7790.

SUPPLEMENTARY INFORMATION:

Federal Register Correction

In proposed rule FR document 2024-12472 beginning on page 48540 in the issue of June 7, 2024, make the following correction in the DATES section. On page 48540, in the second column, the second sentence of the DATES section is corrected to read as follows:

“Replies to oppositions to the Petition must be filed July 5, 2024.”

Dated: June 11, 2024.
Federal Communications Commission.
Marlene Dortch,
Secretary.

[FR Doc. 2024-13404 Filed 7-2-24; 8:45 am]

BILLING CODE 6712-01-P